DEPARTMENT OF TRANSPORTATION

Federal Aviation Administration

14 CFR Part 39

[Docket No. FAA-2013-0555; Product Identifier 2010-SW-047-AD]

RIN 2120-AA64

Airworthiness Directives; Airbus Helicopters Deutschland GmbH Helicopters (Previously Eurocopter Deutschland GmbH)

AGENCY: Federal Aviation Administration (FAA), DOT.

ACTION: Notice of proposed rulemaking (NPRM).

SUMMARY: We propose to revise Airworthiness Directive (AD) 2014-05-06 for Eurocopter Deutschland GmbH Model EC135 and MBB-BK 117C-2 helicopters. AD 2014-05-06 requires repetitive inspections of the flight-control bearings, replacing any loose bearings with airworthy flight-control bearings, and installing bushings and washers. This proposed AD would retain the requirements of AD 2014-05-06 but would remove the repetitive inspections. The actions of this proposed AD are intended to correct an unsafe condition on these products.

DATES: We must receive comments on this proposed AD by July 31, 2018.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at http://www.regulations.gov by searching for and locating Docket No. FAA-2013-0555; or in person at Docket Operations between 9 a.m. and 5 p.m., Monday through Friday, except Federal holidays. The AD docket contains this proposed AD, the European Aviation Safety Agency (EASA) AD, the economic evaluation, any comments received and other information. The street address for Docket Operations (telephone 800-647-5527) is in the ADDRESSES section. Comments will be available in the AD docket shortly after receipt.

For service information identified in this proposed rule, contact Airbus Helicopters, 2701 N. Forum Drive, Grand Prairie, TX 75052; telephone (972) 641-0000 or (800) 232-0323; fax (972) 641-3775; or at http://www.helicopters.airbus.com/website/en/ref/Technical-Support_73.html. You may review service information at the FAA, Office of the Regional Counsel, Southwest Region, 10101 Hillwood Pkwy, Room 6N-321, Fort Worth, TX 76177.

FOR FURTHER INFORMATION CONTACT: Matt Fuller, Senior Aviation Safety Engineer, Safety Management Section, Rotorcraft Standards Branch, FAA, 10101 Hillwood Pkwy., Fort Worth, TX 76177; telephone (817) 222-5110; email matthew.fuller@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, issued EASA AD No. 2010-0058, dated March 30, 2010, for Eurocopter Deutschland GmbH (now Airbus Helicopters Deutschland GmbH) Model EC135, EC635, and MBB-BK 117C-2 helicopters. EASA advises that during an inspection of an MBB-BK117 C-2, “bearings were detected which had not been correctly fixed.” EASA advises that this condition, if not detected and corrected, may cause the affected control lever to shift in the axial direction and contact the helicopter structure, possibly resulting in reduced helicopter control. As some bearings on the EC135 and MBB-BK 117C-2 helicopter are installed with the same procedure, they are equally affected by the possibility of the unsafe condition, EASA advises.

As a result, we published AD 2014-05-06 (79 FR 13196, March 10, 2014), which requires repetitively inspecting the flight-control bearings, replacing any loose bearings with an airworthy flight-control bearing, and installing bushings and washers.

Actions Since AD 2014-05-06 Was Issued

Since we published AD 2014-05-06, EASA issued AD No. 2010-0058R1, dated April 7, 2017, to remove the repetitive inspections required by EASA AD No. 2010-0058. EASA advises that a review of data and feedback from in-service helicopters determined the Airbus Helicopters modification removes the need for repetitive inspections. We have made a similar determination and are issuing this proposed AD to remove the repetitive inspections required by AD 2014-05-06.

FAA's Determination

These helicopters have been approved by the aviation authority of Germany and are approved for operation in the United States. Pursuant to our bilateral agreement with Germany, EASA, its technical representative, has notified us of the unsafe condition described in its AD. We are proposing this AD because we evaluated all known relevant information and determined that an unsafe condition is likely to exist or develop on other products of the same type design.

Related Service Information Under 1 CFR Part 51

Eurocopter issued Alert Service Bulletin (ASB) EC135-67A-019, Revision 3, dated December 16, 2009, for Model EC135-series helicopters, and ASB MBB-BK117 C-2-67A-010, Revision 3, dated February 8, 2010, for Model MBB-BK 117C-2 helicopters. This service information specifies a repetitive inspection of the affected bearings and retrofitting bushings on the levers to prevent movement of the bearings.

This service information is reasonably available because the interested parties have access to it through their normal course of business or by the means identified in the ADDRESSES section.

Other Related Service Information

We reviewed Airbus Helicopters ASB EC135-67A-019 for Model EC135-series helicopters and ASB MBB-BK117C-2-67A-010 for Model MBB-BK 117C-2 helicopters, both Revision 4 and both dated April 3, 2017. This service information removes the repetitive inspections and retains the procedures for retrofitting the bushings on the levers to prevent movement of the bearings. Revision 3 of this service information is attached as an appendix to Revision 4.

Proposed AD Requirements

For EC135 helicopters, this proposed AD would require within 100 hours time-in-service (TIS) or at the next annual inspection, whichever occurs first, modifying the left-hand (LH) and right-hand (RH) guidance units and cyclic shaft by installing bushings and washers to prevent shifting in the axial direction.

For MBB-BK 117C-2 helicopters, this proposed AD would require within 100 hours TIS or at the next annual inspection, whichever occurs first, modifying the LH and RH guidance units and the lateral control lever by installing bushings and washers to prevent shifting of the bearings in the axial direction.

Differences Between This Proposed AD and the EASA AD

Differences between this AD and the EASA AD are:

• The EASA AD is applicable to EC 635-series helicopters, whereas this proposed AD would not because these model helicopters have no U.S. type certificate.

• The EASA AD requires the modification within the next 12 months after April 13, 2010. This proposed AD would require the modification within 100 hours TIS or at the next annual inspection, whichever occurs first.

Costs of Compliance

We estimate that this AD affects 295 Model EC135-series helicopters and 117 Model MBB-BK 117C-2 helicopters of U.S. Registry and that labor costs average $85 per work-hour. Based on these estimates, we expect the following costs:

• For EC135 helicopters, completing the required modification would require about 32 work-hours and parts would cost about $312, for a total cost of $3,032 per helicopter and $894,400 for the U.S. fleet.

• For MBB-BK 117C-2 helicopters, completing the required modification would require about 32 work-hours and parts would cost about $396, for a total cost of $3,116 per helicopter and $364,572 for the U.S. fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-05-06, Amendment 39-17779 (79 FR 13196, March 10, 2014), and adding the following new AD:

Airbus Helicopters Deutschland GmbH (Previously Eurocopter Deutschland GmbH): Docket No. FAA-2013-0555; Product Identifier 2010-SW-047-AD.

(a) Applicability

This AD applies to the following Airbus Helicopters Deutschland GmbH (previously Eurocopter Deutschland GmbH) helicopters, certificated in any category:

(1) Model EC135 P1, P2, P2+, T1, T2, and T2+ helicopters, serial number (S/N) 0005 through 00829, with a tail rotor control lever, part number (P/N) L672M2802205 or L672M1012212; cyclic control lever, P/N L671M1005250; collective control lever assembly, P/N L671M2020108; or collective control plate, P/N L671M5040207; installed, and

(2) Model MBB-BK 117C-2 helicopters, S/N 9004 through 9310, with a tail rotor control lever assembly, P/N B672M1007101 or B672M1807101; tail rotor control lever, P/N B672M1002202 or L672M2802205; or lateral control lever assembly, P/N B670M1008101, installed.

(b) Unsafe Condition

This AD defines the unsafe condition as incorrectly installed flight control bearings. This condition could cause the affected control lever to shift and contact the helicopter structure, resulting in reduced control of the helicopter.

(c) Comments Due Date

We must receive comments by July 31, 2018.

(d) Compliance

You are responsible for performing each action required by this AD within the specified compliance time unless it has already been accomplished prior to that time.

(e) Required Actions

(1) For Model EC135 P1, P2, P2+, T1, T2, and T2+ helicopters: Within the next 100 hours time-in-service (TIS) or at the next annual inspection, whichever occurs first, modify the left-hand (LH) and right-hand (RH) guidance units and the cyclic shaft by installing bushings and washers to prevent shifting of the bearings in the axial direction as follows:

(i) Remove and disassemble the LH guidance unit and install a bushing, P/N L672M1012260, between the bearing block and the lever of the LH guidance unit as depicted in Detail A of Figure 5 of Eurocopter Alert Service Bulletin EC135-67A-019, Revision 3, dated December 16, 2009 (EC135 ASB).

(ii) For helicopters without a yaw brake, remove and disassemble the RH guidance unit and install a bushing, P/N L672M1012260, between the bearing block and the lever as depicted in Detail B of Figure 5 of EC135 ASB.

(iii) Remove and disassemble the cyclic shaft and install a washer, P/N L671M10055260, between the bearing block and the lever as depicted in Detail C of Figure 6 of EC135 ASB.

(iv) Remove the collective control rod from the bellcrank and install a washer, P/N L221M1042208, on each side of the collective control rod and bellcrank as depicted in Detail D of Figure 6 of EC135 ASB.

(2) For Model MBB-BK 117C-2 helicopters: Within the next 100 hours TIS or at the next annual inspection, whichever occurs first, modify the LH and RH guidance units and the lateral control lever by installing bushings and washers to prevent shifting of the bearings in the axial direction as follows:

(i) Remove and disassemble the RH guidance unit and install a bushing, P/N L672M1012260, between the lever and the bracket as depicted in Detail B of Figure 4 of Eurocopter Alert Service Bulletin MBB BK117C-2-67A-010, Revision 3, dated February 8, 2010 (BK117 ASB). Remove and disassemble the LH guidance unit and install a bushing, P/N L672M1012260, between the lever and the bracket as depicted in Detail C of Figure 4 of BK117 ASB.

(ii) Remove the lateral control lever and install new bushings in accordance with the Accomplishment Instructions, paragraphs 3.C(9)(a) through 3.C(9)(g) of BK117 ASB.

(iii) Identify the modified lever assembly by writing “MBB BK117C-2-67A-010” on the lever with permanent marking pen and protect with a single layer of lacquer (CM 421 or equivalent).

(iv) Apply corrosion preventive paste (CM518 or equivalent) on the shank of the screws and install airworthy parts as depicted in Figure 5 of BK117 ASB.

(f) Affected ADs

This AD replaces AD 2014-05-06, Amendment 39-17779 (79 FR 13196, March 10, 2014).

(g) Alternative Methods of Compliance (AMOCs)

(1) The Manager, Safety Management Section, Rotorcraft Standards Branch, FAA, may approve AMOCs for this AD. Send your proposal to: Matt Fuller, Senior Aviation Safety Engineer, Safety Management Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

(1) Airbus Helicopters Alert Service Bulletin EC135-67A-019, Revision 4, dated April 3, 2017, and Alert Service Bulletin MBB-BK117C-2-67A-010, Revision 4, dated April 3, 2017, which are not incorporated by reference, contain additional information about this AD. For service information identified in this AD, contact Airbus Helicopters, 2701 N. Forum Drive, Grand Prairie, TX 75052; telephone (972) 641-0000 or (800) 232-0323; fax (972) 641-3775; or at http://www.helicopters.airbus.com/website/en/ref/Technical-Support_73.html. You may review service information at the FAA, Office of the Regional Counsel, Southwest Region, 10101 Hillwood Pkwy, Room 6N-321, Fort Worth, TX 76177.

(2) The subject of this AD is addressed in European Aviation Safety Agency (EASA) AD No. 2010-0058R1, dated April 7, 2017. You may view the EASA AD on the internet at http://www.regulations.gov in the AD Docket.

(i) Subject

Joint Aircraft Service Component (JASC) Code: 6710, Main Rotor Control.

Issued in Fort Worth, Texas, on May 11, 2018.
Scott A. Horn,
Deputy Director for Regulatory Operations, Compliance & Airworthiness Division, Aircraft Certification Service.

[FR Doc. 2018-11447 Filed 5-31-18; 8:45 am]

BILLING CODE 4910-13-P